MARINE MAMMAL COMMISSION

Sunshine Act Notice

TIME AND DATE: The Marine Mammal Commission and its Committee of Scientific Advisors on Marine Mammals will hold a public meeting on Tuesday, 29 May 2018, from 10:30 a.m. to 5:30 p.m.; Wednesday, 30 May 2018 from 8:30 a.m. to 5:30 p.m.; and Thursday, 31 May 2018, from 8:30 a.m. to 5:00 p.m.

The Commission and the Committee also will meet in executive session on Tuesday, 29 May 2018, from 8:30 to 10:00 a.m.

PLACE: Courtyard Ballroom, Renaissance Seattle Hotel, 515 Madison Street, Seattle, Washington.

STATUS: The executive session will be closed to the public in accordance with the provisions of the Government in the Sunshine Act (5 U.S.C. 552b) and applicable regulations. The session will be limited to discussions of internal agency practices and personnel. All other portions of the meeting will be open to the public. Public participation will be allowed as time permits and as determined to be desirable by the Chairman.

MATTERS TO BE CONSIDERED: The Commission and Committee will meet in public session to discuss a broad range of marine mammal science and conservation issues, with a particular focus on issues related to the Pacific Northwest and the West Coast. A draft agenda for the meeting is posted on the Commission's website at https://www.mmc.gov/wp-content/uploads/MMC-2018-Annual-Meeting-Agenda_Public_27April2018.pdf and will be updated as necessary.

FOR FURTHER INFORMATION CONTACT: The Marine Mammal Commission, 4340 East-West Highway, Room 700, Bethesda, MD 20814; (301) 504-0087; email: mmc@mmc.gov.

Dated: May 8, 2018.
Peter O. Thomas,
Executive Director.

[FR Doc. 2018-10376 Filed 5-11-18; 11:15 am]

BILLING CODE 6820-31-P